FEDERAL COMMUNICATIONS COMMISSION

47 CFR Part 73

[DA 02-620; MM Docket No. 99-244; RM-9678, 9873]

Radio Broadcasting Services; Cumberland, KY and Weber City, Glade Spring, Marion, Richlands and Grundy, VA.

AGENCY: Federal Communications Commission.

ACTION: Final rule.

SUMMARY: The Commission, at the request of Holston Valley Broadcasting Corporation, allots Channel 274A at Glade Spring, Virginia, as the community's first local aural transmission service (RM-9873). To accommodate the allotment, we will (1) substitute Channel 263A for Channel 273A at Marion, Virginia, and modify Station WOLD-FM's license accordingly; (2) substitute Channel 249A for Channel 264A at Richlands, Virginia, and modify Station WRIC-FM's license accordingly; and (3) substitute Channel 2654A for Channel 249A at Grundy, Virginia, and modify Station WMJD(FM)'s license accordingly. We also deny the petition for rule making filed by Cumberland City Broadcasting Company requesting the substitution of Channel 274C3 for Channel 274A at Cumberland, the reallotment of Channel 274C3 from Cumberland to Weber City, Virginia, and the modification of Station WSEH(FM)'s license accordingly (RM-9678). See 64 FR 37925, July 14, 1999. See Supplementary Information, infra.

DATES: Effective May 3, 2002. A window for Channel 274A at Glade Spring, Virginia, will not be opened at this time. Instead, the issue of opening this allotment for auction will be addressed by the Commission in a subsequent order.

ADDRESSES: Federal Communications Commission, Washington, DC 20554.

FOR FURTHER INFORMATION CONTACT: Sharon P. McDonald, Mass Media Bureau, (202) 418-2180.

SUPPLEMENTARY INFORMATION: This is a synopsis of the Commission's Report and Order, MM Docket No. 99-244, adopted March 6, 2002, and released March 19, 2002. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Channel 274A can be allotted to Glade Spring in compliance with the Commission's minimum distance separation requirements with a site restriction of 13.3 kilometers (8.3 miles) east at petitioner's requested site. The coordinates for Channel 274A at Glade Spring are 36-45-15 North Latitude and 81-37-56 West Longitude. Additionally, Channel 263A can be substituted at Marion with a site restriction of 2.2 kilometers (1.3 miles) north at petitioner's requested site. The coordinates for Channel 263A at Marion are 36-51-23 North Latitude and 81-30-21 West Longitude. Channel 249A can be substituted at Richlands at Station WRIC-FM's presently licensed site. The coordinates for Channel 249A at Richlands are 37-09-04 North Latitude and 81-53-56 West Longitude. Channel 264A can be substituted at Grundy at Station WMJD(FM)'s presently licensed site. The coordinates for Channel 264A at Grundy are 37-18-08 North Latitude and 82-07-04 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Virginia, is amended by adding Glade Spring, Channel 274A; by removing Channel 273A and adding Channel 263A at Marion; by removing Channel 264A and adding Channel 249A at Richlands; and by removing Channel 249A and adding Channel 264A at Grundy.

Federal Communications Commission.
John A. Karousos,
Chief, Allocations Branch, Policy and Rules Division, Mass Media Bureau.

[FR Doc. 02-7975 Filed 4-2-02; 8:45 am]

BILLING CODE 6712-01-P